DEPARTMENT OF TRANSPORTATION

Federal Aviation Administration

14 CFR Part 73

[Docket No. FAA-2018-0984; Airspace Docket No. 18-ASW-8]

RIN 2120-AA66

Proposed Expansion of R-3803 Restricted Area Complex; Fort Polk, LA

AGENCY: Federal Aviation Administration (FAA), DOT.

ACTION: Notice of proposed rulemaking (NPRM).

SUMMARY: This action proposes to expand the R-3803 restricted area complex in central Louisiana by establishing four new restricted areas, R-3803C, R-3803D, R-3803E, and R-3803F, and make minor technical amendments to the existing R-3803A and R-3803B legal descriptions for improved operational efficiency and administrative standardization. The proposed restricted area establishments and amendments support U.S. Army Joint Readiness Training Center training requirements at Fort Polk for military units preparing for overseas deployment.

DATES: Comments must be received on or before January 10, 2019.

ADDRESSES: Send comments on this proposal to the U.S. Department of Transportation, Docket Operations, M-30, 1200 New Jersey Avenue SE, West Building Ground Floor, Room W12-140, Washington, DC 20590-0001; telephone: (202) 366-9826. You must identify FAA Docket No. FAA-2018-0984; Airspace Docket No. 18-ASW-8, at the beginning of your comments. You may also submit comments through the internet at www.regulations.gov. You may review the public docket containing the proposal, any comments received, and any final disposition in person in the Dockets Office between 9:00 a.m. and 5:00 p.m., Monday through Friday, except federal holidays. The Docket Office (telephone 1-800-647-5527), is on the ground floor of the building at the above address.

Comments on environmental and land use aspects to should be directed to: Allison M. Cedars, Chief, Environmental Branch, Department of Public Works, 1697 23rd Street, Fort Polk, LA 71459; email: allison.m.cedars.civ@mail.mil; phone: (337) 531-6725.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would establish restricted area airspace at Fort Polk, LA, to enhance aviation safety and accommodate essential U.S. Army hazardous force-on-force and force-on-target training activities.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2018-0984; Airspace Docket No. 18-ASW-8) and be submitted in triplicate to the Docket Management System (see ADDRESSES section for address and phone number). You may also submit comments through the internet at www.regulations.gov.

Commenters wishing the FAA to acknowledge receipt of their comments on this action must submit with those comments a self-addressed, stamped postcard on which the following statement is made: “Comments to FAA Docket No. FAA-2018-0984; Airspace Docket No. 18-ASW-8.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the internet at www.regulations.gov. Recently published rulemaking documents can also be accessed through the FAA's web page at http://www.faa.gov/air_traffic/publications/airspace_amendments/.

You may review the public docket containing the proposal, any comments received and any final disposition in person at the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Background

As one of two U.S. Army Combat Training Centers, Fort Polk has submitted a proposal to the FAA to expand the R-3803 restricted area complex in central Louisiana by establishing four new restricted areas. Two of the proposed restricted areas would be designated above the other two, similar to the way R-3803A and R-3803B exist, and the designated altitudes of the proposed restricted areas would extend upward from the surface to but not including Flight Level (FL) 350.

The Joint Readiness Training Center at Fort Polk has increasing and enduring requirements to conduct realistic force-on-force and force-on-target training for military units prior to overseas deployment. Additional airspace is now necessary to segregate non-participating aircraft from longer-range surface-to-surface and air-to-surface munitions currently being fielded and associated hazardous activities. Further, Fort Polk's ground infrastructure also includes laser-scoring systems that only function at non-eye safe wavelengths.

The proposed restricted areas are required to ensure safe live artillery fire training while protecting the public from both air and ground maneuvers using advanced weapon systems as well as manned flight, electronic jamming, combat lasers, flares, smoke, powerful simulators, and high explosive activities against progressive and spontaneous enemy tactics training scenarios. Because of advances in weapon systems, modern forces are required to cover more ground in dispersed areas of operation and operate over greater distances than ever before. The increased maneuver area is necessary to satisfy the training needs of the new air-to-ground combat teaming.

The Army recently completed acquisition of large tracks of land to the south and southeast of the existing R-3803 restricted area complex necessary to segregate the longer range munitions and non-eye safe lasers from non-participating aircraft. New firing points and impact areas located on the newly acquired land are planned to support large force multi-Service training events using weapons ranging upward to 155mm Howitzers and Hellfire missiles. However, the artillery firing points on the newly acquired land produce surface danger zones and vertical hazards that expand beyond the existing R-3803A boundary. Additionally, aircraft maneuvering within the current R-3803A boundaries is extremely limited. The proposed restricted area airspace expansion would contain the surface-to-surface fires and safety zones/areas, as well as provide participating aircraft more maneuver airspace to activate combat lasers earlier and conduct strafing and bombing runs alignment within the proposed boundaries.

The Proposal

The FAA is proposing an amendment to 14 CFR part 73 by establishing four new restricted areas, R-3803C, R-3803D, R-3803E, and R-3803F, located south-southeast of the R-3803 complex supporting the Joint Readiness Training Center at Fort Polk, LA. The new restricted areas would support the U.S. Army conducting realistic force-on-force and force-on-target training employing longer-range surface-to-surface and air-to-surface munitions currently being fielded. To effectively segregate non-participant air traffic from the hazardous activities associated with the longer-range munitions being used by the Joint Readiness Training Center, the proposed restricted areas would extend upward from the surface to but not including FL 350 and be activated by a Notice to Airman (NOTAM).

Of the proposed restricted areas, R-3803C and R-3803D would be established extending upward from the surface to but not including FL 180. Stacked above the proposed R-3803C, the proposed R-3803E would be established extending upward from FL 180 to but not including FL 350. Similarly, stacked above the proposed R-3803D, the proposed R-3803F would be established extending upward from FL 180 to but not including FL 350. The boundaries of the proposed R-3803C and R-3803E restricted areas would match, as would the boundaries of the proposed R-3803D and R-3803F restricted areas. However, there is an airspace cutout included in the proposed R-3803D boundary description, extending upward from the surface to 1,200 feet above ground level (AGL), to allow aerial access to the land the Army does not control. The Joint Readiness Training Center subject matter experts for artillery ballistics have determined that the proposed R-3803D restricted area floor over the airspace cutout with a ceiling of 1,200 feet AGL would be adequate to contain and segregate the hazardous activities occurring above.

The proposed restricted areas R-3803C and R-3803D would be activated by NOTAM, with an anticipated usage of 18 hours per day approximately 320 days per year. The higher strata proposed restricted areas, R-3803E and R-3803F, would be activated by NOTAM 24 hours in advance, with an anticipated usage of 8 hours per day approximately 20 days per year.

Lastly, the FAA also proposes to make a number of minor editorial and technical amendments to the existing restricted area R-3803A and R-3803B legal descriptions. They include:

• The designated altitudes for R-3803A would be changed from “Surface to FL 180” to “Surface to but not including FL 180” to match the designated altitudes of the lower proposed restricted areas, R-3803C and R-3803D, and correct the FL 180 designated altitude overlap with R-3803B.

• The designated altitudes for R-3803B would be changed from “FL 180 up to but not including FL 350” to “FL 180 to but not including FL 350” to match the designated altitudes of the upper proposed restricted areas, R-3803C and R-3803D, and correct the non-standard format.

• The time of designation for R-3803A would be changed from “Continuous” to “by NOTAM” to match the time of designation of the lower proposed restricted areas, R-3803C and R-3803D, and impose less of a burden on the flying public than the existing continuous activation.

• The time of designation for R-3803B would be changed from “As activated by NOTAM issued at least 24 hours in advance” to “By NOTAM issued at least 24 hours in advance” to match the time of designation of the upper proposed restricted areas, R-3803E and R-3803F, for clarity and standardization.

• The using agency designations for R-3803A and R-3803B would be changed from “Commanding General, Fort Polk, LA” to “U.S. Army, Joint Readiness Training Center, Fort Polk, LA” to match the using agency designation of the proposed restricted areas for standardization.

The FAA acknowledges that the proposed restricted areas R-3803C and R-3803D, if established, would be designated within the existing Warrior 1 Low and Warrior 1 High Military Operations Areas (MOAs). To overcome potential airspace issues and confusion created if all special use airspace (SUA) areas were active at the same time, the FAA would amend the legal descriptions of both MOAs to exclude that airspace within R-3803C and R-3803D when the restricted areas are activated.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.38 [Amended]

2. Section 73.38 is amended as follows:

R-3803A Fort Polk, LA [Amended]

Boundaries. Beginning at lat. 31°23′37″ N, long. 93°09′58″ W; to lat. 31°23′13″ N, long. 93°09′49″ W; to lat. 31°22′01″ N, long. 93°10′06″ W; to lat. 31°19′17″ N, long. 93°11′11″ W; to lat. 31°19′17″ N, long. 93°20′16″ W; to lat. 31°24′31″ N, long. 93°20′16″ W; to lat. 31°24′31″ N, long. 93°16′43″ W; to lat. 31°23′36″ N, long. 93°13′25″ W; to the point of beginning.

Designated altitudes. Surface to but not including FL 180.

Time of designation. By NOTAM.

Controlling agency. FAA, Houston ARTCC.

Using agency. U.S. Army, Joint Readiness Training Center, Fort Polk, LA.

R-3803B Fort Polk, LA [Amended]

Boundaries. Beginning at lat. 31°23′37″ N, long. 93°09′58″ W; to lat. 31°23′13″ N, long. 93°09′49″ W; to lat. 31°22′01″ N, long. 93°10′06″ W; to lat. 31°19′17″ N, long. 93°11′11″ W; to lat. 31°19′17″ N, long. 93°20′16″ W; to lat. 31°24′31″ N, long. 93°20′16″ W; to lat. 31°24′31″ N, long. 93°16′43″ W; to lat. 31°23′36″ N, long. 93°13′25″ W; to the point of beginning.

Designated altitudes. FL 180 to but not including FL 350.

Time of designation. By NOTAM issued at least 24 hours in advance.

Controlling agency. FAA, Houston ARTCC.

Using agency. U.S. Army, Joint Readiness Training Center, Fort Polk, LA.

R-3803C Fort Polk, LA [New]

Boundaries. Beginning at lat. 31°19′17″ N, long. 93°10′31″ W; to lat. 31°17′39″ N, long. 93°11′07″ W; to lat. 31°14′25″ N, long. 93°12′17″ W; to lat. 31°14′25″ N, long. 93°14′40″ W; to lat. 31°15′32″ N, long. 93°14′40″ W; to lat. 31°15′32″ N, long. 93°17′00″ W; to lat. 31°19′17″ N, long. 93°17′00″ W; to the point of beginning.

Designated altitudes. Surface to but not including FL 180.

Time of designation. By NOTAM.

Controlling agency. FAA, Houston ARTCC.

Using agency. U.S. Army, Joint Readiness Training Center, Fort Polk, LA.

R-3803D Fort Polk, LA [New]

Boundaries. Beginning at lat. 31°19′17″ N, long. 93°03′29″ W; to lat. 31°14′53″ N, long. 93°03′30″ W; to lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°19′17″ N, long. 93°10′31″ W; to the point of beginning, excluding the airspace area from the surface to and including 1,200 feet AGL beginning at lat. 31°14′52″ N, long. 93°08′52″ W; at lat. 31°14′51″ N, long. 93°10′07″ W; at lat. 31°14′25″ N, long. 93°10′06″ W; at lat. 31°14′25″ N, long. 93°12′17″ W; at lat. 31°17′39″ N, long. 93°11′07″ W; at lat. 31°17′04″ N, long. 93°10′22″ W; at lat. 31°16′11″ N, long. 93°10′22″ W; to the point of beginning of the excluded area.

Designated altitudes. Surface to but not including FL 180.

Time of designation. By NOTAM.

Controlling agency. FAA, Houston ARTCC.

Using agency. U.S. Army, Joint Readiness Training Center, Fort Polk, LA.

R-3803E Fort Polk, LA [New]

Boundaries. Beginning at lat. 31°19′17″ N, long. 93°10′31″ W; to lat. 31°17′39″ N, long. 93°11′07″ W; to lat. 31°14′25″ N, long. 93°12′17″ W; to lat. 31°14′25″ N, long. 93°14′40″ W; to lat. 31°15′32″ N, long. 93°14′40″ W; to lat. 31°15′32″ N, long. 93°17′00″ W; to lat. 31°19′17″ N, long. 93°17′00″ W; to the point of beginning.

Designated altitudes. FL 180 to but not including FL 350.

Time of designation. By NOTAM issued at least 24 hours in advance.

Controlling agency. FAA, Houston ARTCC.

Using agency. U.S. Army, Joint Readiness Training Center, Fort Polk, LA.

R-3803F Fort Polk, LA [New]

Boundaries. Beginning at lat. 31°19′17″ N, long. 93°03′29″ W; to lat. 31°14′53″ N, long. 93° 03′30″ W; to lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°19′17″ N, long. 93°10′31″ W; to the point of beginning.

Designated altitudes. FL 180 to but not including FL 350.

Time of designation. By NOTAM issued at least 24 hours in advance.

Controlling agency. FAA, Houston ARTCC.

Using agency. U.S. Army, Joint Readiness Training Center, Fort Polk, LA.

Issued in Washington, DC, on November 19, 2018.
Gemechu Gelgelu,
Acting Manager, Airspace Policy Group.

[FR Doc. 2018-25707 Filed 11-23-18; 8:45 am]

BILLING CODE 4910-13-P